ENVIRONMENTAL PROTECTION AGENCY

[ER-FRL-6623-9]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated May 18, 2001 (97 FR 27647).

Draft EISs

ERP No. D-AFS-J65353-MT Rating EC2, Threemile Stewardship Project, Proposed Short-Term and Long-Term Vegetation and Road Management Activities, Ashland Ranger District, Custer National Forest, Powder and Rosebud Counties, MT.

Summary: EPA expressed environmental concerns and requested more detailed descriptions of alternatives, treatment types, road construction and reconstruction and further explanation of how environmental or ecological considerations will be integrated into the stewardship contracting and oversight. EPA recommended improvements in the air quality impact analysis for prescribed fire, and Alternative 4 which may provide greater watershed benefits.

ERP No. D-DOE-G06012-00 Rating EC2, Technical Area 18 (TA-18) Relocation of Capabilities and Materials at the Los Almos National Laboratory (LANL), Operational Activities Involve Research in and the Design, Development, Construction, and Application of Experiments on Nuclear Criticality, NM, NV and ID.

Summary: EPA expressed environmental concerns and asked for additional information and discussion in the FEIS on accident history and on weapons development activities at the sites under consideration.

ERP No. D-FAA-F51048-IL Rating LO, South Suburban Airport, Proposed Site Approval and Land Acquisition, For Future Air Carrier Airport, Will and Kankakee Counties, IL.

Summary: EPA had no environmental objections to the project as proposed.

ERP No. D-NOA-F39039-MI Rating LO, Indiana Lake Michigan Coastal Program Document, Federal Approval and Implementation, Coastal Zone Management, Lake, Porter and LaPorte Counties, MI.

Summary: EPA had no environmental objections to the program and DEIS which are positive steps in the long-term management of southern Lake Michigan's coastal resources. EPA encouraged NOAA to emphasize proactive management responses in the Coastal Program to water quality, control of invasive species and public health threats.

Final EISs

ERP No. F-AFS-G36152-NM Santa Fe National Forest, Santa Fe Municipal Watershed Project, Servere Crown Fire Reduction and Sustainable Forest and Watershed Conditions Restoration, Implementation, Pecos Wilderness to Cochitti Lake, Santa Fe National Forest, Santa Fe County, NM.

Summary: EPA expressed lack of environmental objections on the FEIS.

ERP No. F-BLM-K39058-CA Cadiz Groundwater Storage and Dry-Year Supply Program, Construction and Operation, Amendment of the California Desert Conservation Area (CDCA) Plan, Issuance of Right-of-Way Grants and Permits, San Bernardino County, CA.

Summary: EPA expressed environmental concerns that the project could result in long-term adverse impacts to groundwater, springs and seeps if monitoring and mitigation measures are not properly applied. Because we lack important baseline data, it will be critical to continually monitor impacts and refine models and management strategies. EPA recommended an independent third party review impact assessments be made by the Metropolitan Water District and the Technical Review Panel.

ERP No. F-NPS-K61153-CA Alcatraz Island Historic Preservation and Safety Construction Program, Protection and Implementation, San Francisco County, CA.

Summary: No formal comment letter was sent to the preparing agency.

ERP No. FS-JUS-A82111-00 Cannabis Eradication in the Contiguous United States and Hawaii, Updated Information concerning New Scientific Data on Herbicidal Eradication.

Summary: EPA review of the Final SEIS concludes that it adequately addresses EPA's environmental concerns expressed on the Draft SEIS.

ERP No. FS-UMC-K11067-00 Yuma Training Range Complex Management, Operation and Development, Marine Corps Air Station Yuma, Goldwater Range, Yuma and La Paz Cos., AZ and Chocolate Mountain Range, Imperial and Riverside Counties, CA.

Summary: No formal comment letter was sent to the preparing agency.

ERP No. F1-AFS-J65250-CO Forest Development Trail (FDT) 1135 (Arapho Ridge Trail), Forest Development Road (FDR) 711.1 and FDR 711.1A Motorized or Non-Motorized Determination and Trailhead Parking Areas Creation at both ends of the Trail, Routt National Forest, Jackson County, CO.

Summary: No formal comment letter was sent to the preparing agency.

Dated: November 20, 2001.
Joseph C. Montgomery,
Director, NEPA Compliance Division, Office of Federal Activities.

[FR Doc. 01-29274 Filed 11-21-01; 8:45 am]

BILLING CODE 6560-50-U